COMMISSION ON OCEAN POLICY

Public Meeting

AGENCY: Commission on Ocean Policy.

ACTION: Notice.

SUMMARY: The U.S. Commission on Ocean Policy will hold a meeting to hear and discuss ocean-related issues of concern in the development of recommendations for a coordinated national ocean policy. This will be the twelfth public Commission meeting.

DATES: The public meeting will be held Wednesday, October 30, 2002 from 8:30 a.m. to 6:00 p.m.

ADDRESSES: The meeting location is the Jefferson Auditorium, Department of Agriculture, South Building, 14th and Independence Ave, SW., Washington, DC.

FOR FURTHER INFORMATION CONTACT: Terry Schaff, U.S. Commission on Ocean Policy, 1120 20th Street, NW., Washington, DC, 20036, 202-418-3442, schaff@oceancommission.gov.

SUPPLEMENTARY INFORMATION: This meeting is being held pursuant to requirements under the Oceans Act of 2000 (Pub. L. 106-256, Section 3(e)(1)(E)). The agenda will include presentations by invited speakers representing federal government agencies, international interests and historical perspectives, comments from the public, and any required administrative discussions and executive sessions. Invited speakers and members of the public are requested to submit their statements for the record electronically by Tuesday, October 22, 2002 to the meeting Point of Contact. A public comment period is scheduled for Wednesday, October 30, 2002. The meeting agenda, including the specific time for the public comment period, and guidelines for making public comments will be posted on the Commission's Web site at http://www.oceancommission.gov prior to the meeting.

Dated: September 18, 2002.
James D. Watkins,
Chairman, U.S. Commission on Ocean Policy.

[FR Doc. 02-24278 Filed 9-24-02; 8:45 am]

BILLING CODE 6820-WM-P